FEDERAL TRADE COMMISSION

SES Performance Review Board

AGENCY: Federal Trade Commission.

ACTION: Notice.

SUMMARY: Notice is hereby given of the appointment of members to the FTC Performance Review Board.

FOR FURTHER INFORMATION CONTACT: Vicki Barber (202-326-2700), Chief Human Capital Officer, Federal Trade Commission, 600 Pennsylvania Avenue NW, Washington, DC 20580.

SUPPLEMENTARY INFORMATION: Publication of the Performance Review Board (PRB) membership is required by 5 U.S.C. 4314 (c)(4). The PRB reviews and evaluates the initial appraisal of a senior executive's performance by the supervisor, and makes recommendations regarding performance ratings, performance awards, and pay-for-performance pay adjustments to the Chair.

The following individuals have been designated to serve on the Commission's Performance Review Board:

Vicki Barber, Chief Human Capital Officer

Reilly James Dolan, Principle Deputy General Counsel

Tara Koslov, Deputy Director, Bureau of Competition

David Robbins, Executive Director, PRB Chair

Monica Vaca, Deputy Director, Bureau of Consumer Protection

Michael Vita, Deputy Director, Bureau of Economics

Kevin Williams, Deputy Executive Director

By direction of the Commission.
April J. Tabor,
Secretary.

[FR Doc. 2021-23652 Filed 10-29-21; 8:45 am]

BILLING CODE 6750-01-P